DEPARTMENT OF COMMERCE

International Trade Administration

[A-533-840]

Certain Frozen Warmwater Shrimp from India; Corrected Partial Rescission of Antidumping Duty Administrative Review

AGENCY: Import Administration, International Trade Administration, Department of Commerce.

EFFECTIVE DATE: September 14, 2006.

FOR FURTHER INFORMATION CONTACT: Elizabeth Eastwood or Jill Pollack, AD/CVD Operations, Office 2, Import Administration, International Trade Administration, U.S. Department of Commerce, 14th Street and Constitution Avenue, NW, Washington, DC, 20230; telephone (202) 482-3874 and (202) 482-4593, respectively.

SUPPLEMENTARY INFORMATION:

Background

On July 21, 2006, the Department of Commerce (the Department) published in the Federal Register its notice of partial rescission of the antidumping duty administrative review of certain frozen warmwater shrimp from India for the period August 4, 2004, through January 31, 2006. See Certain Frozen Warmwater Shrimp from India; Partial Rescission of Antidumping Duty Administrative Review, 71 FR 41419 (July 21, 2006) (Partial Rescission). In Partial Rescission, the Department noted that it was rescinding the administrative review with respect to Sagar Samrat Foods, based on a timely request for withdrawal. See Partial Rescission, 71 FR at 41420. However, the correct name for this company is Sagar Samrat Seafoods.

Corrected Partial Rescission of Antidumping Duty Administrative Review

As noted above, the name for Sagar Samrat Seafoods was incorrectly stated in the Partial Rescission. We now correct the partial rescission of the 2004-2006 antidumping duty administrative review of certain frozen warmwater shrimp from India as noted above. As a result of this correction, we are rescinding the 2004-2006 administrative review for Sagar Samrat Seafoods.

This corrected partial rescission is issued and published in accordance with section 751 of the Tariff Act of 1930, as amended, and 19 CFR 351.213(d)(4).

Dated: September 11, 2006.
Stephen J. Claeys,
Deputy Assistant Secretary for Import Administration.

[FR Doc. E6-15279 Filed 9-13-06; 8:45 am]

BILLING CODE 3510-DS-S